DEPARTMENT OF COMMERCE

International Trade Administration

[A-428-850]

Thermal Paper From Germany: Notice of Court Decision Not in Harmony With the Final Determination of Antidumping Investigation; Notice of Amended Final Determination; Notice of Amended Order, In Part

AGENCY: Enforcement and Compliance, International Trade Administration, Department of Commerce.

SUMMARY: On November 20, 2025, the U.S. Court of International Trade (CIT) issued its final judgment in Matra Americas, LLC et al v. United States, Slip Op. 25-145, Consol. Court No. 21-00632, sustaining the U.S. Department of Commerce (Commerce)'s final remand redetermination pertaining to the antidumping duty (AD) investigation of thermal paper from Germany covering the period of investigation October 1, 2019, through September 30, 2020. Commerce is notifying the public that the CIT's final judgment is not in harmony with Commerce's final determination in that investigation, and that Commerce is amending the final determination and the resulting AD order with respect to the dumping margin assigned to Koehler Paper SE (Koehler) and all other producers and/or exporters.

DATES: Applicable December 1, 2025.

FOR FURTHER INFORMATION CONTACT: Anne Entz, AD/CVD Operations, Office IX, Enforcement and Compliance, International Trade Administration, U.S. Department of Commerce, 1401 Constitution Avenue NW, Washington, DC 20230; telephone: (202) 482-3845.

SUPPLEMENTARY INFORMATION:

Background

On September 30, 2021, Commerce published its Final Determination in the AD investigation of thermal paper from Germany. Commerce: (1) applied the Cohen's d test as part of its differential pricing analysis; ¹ (2) accepted Koehler's reporting of the static sensitivity product characteristic in its sales and cost databases for all but one product in the final determination; ² and (3) recalculated Koehler's reported financial expense ratio to include the interest expenses accrued on Koehler's unpaid antidumping duties from the revoked LWTP Order.³ Commerce subsequently published the AD order on thermal paper from Germany.⁴

¹ See Thermal Paper from Germany: Final Affirmative Determination of Sales at Less Than Fair Value and Final Affirmative Determination of Critical Circumstances, in Part, 86 FR 54152 (September 30, 2021) (Final Determination), and accompanying Issues and Decision Memorandum at Comment 1.

² Id. at Comments 3 and 4.

³ Id. at Comment 5; see also Antidumping Duty Orders: Lightweight Thermal Paper from Germany and the People's Republic of China, 73 FR 70959 (November 24, 2008) (LWTP Order).

⁴ See Thermal Paper from Germany, Japan, the Republic of Korea, and Spain: Antidumping Duty Orders, 86 FR 66284 (November 22, 2021) (Order).

Certain parties appealed Commerce's Final Determination. On February 8, 2024, the CIT remanded the Final Determination to Commerce to reconsider or explain: (1) its application of the Cohen's d test to Koehler's U.S. sales; (2) the coding of the static sensitivity product characteristic; and (3) the decision not to treat Koehler's accrued interest expenses related to unpaid antidumping duties as part of indirect selling expenses.⁵

⁵ See Matra Americas, LLC et al. v. United States, 681 F. Supp. 3d 1339, 1382 (CIT 2024) (Remand Order).

In its final remand redetermination, issued in August 2025, Commerce: (1) reconsidered its application of the Cohen's d test as part of its differential pricing analysis; (2) reopened the record to provide Koehler with an opportunity to remedy its reporting of the static sensitivity product characteristic; and (3) provided further explanation of the inclusion of Koehler's accrued interest expenses related to unpaid antidumping duties as part of the financial expense ratio in the calculation of the cost of production, instead of as U.S. indirect selling expenses.⁶ The CIT sustained Commerce's final redetermination.⁷

⁶ See Final Results of Redetermination Pursuant to Court Remand, Matra Americas, LLC v. United States, 681 F. Supp. 3d 1339 (CIT 2024), dated August 28, 2025 (Final Remand), available at https://access.trade.gov/public/FinalRemandRedetermination.aspx.

⁷ See Matra Americas, LLC et al. v. United States, Slip Op. 25-145, Consol. Court No. 21-00632 (CIT 2025).

Timken Notice

In its decision in Timken,⁸ as clarified by Diamond Sawblades,⁹ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's November 20, 2025, judgment constitutes a final decision of the CIT that is not in harmony with Commerce's Final Determination. Thus, this notice is published in fulfillment of the publication requirements of Timken.

⁸ See Timken Co. v. United States, 893 F. 2d 337 (Fed. Cir. 1990) (Timken).

⁹ See Diamond Sawblades Manufacturers Coalition v. United States, 626 F.3d 1374 (Fed. Cir. 2010) (Diamond Sawblades).

Amended Final Determination

Because there is now a final court judgment, Commerce is amending its Final Determination as follows:

Exporter/producer | Weighted- average dumping margin (percent)
Koehler Paper SE; Koehler Kehl GmbH | 6.27
All Others | 6.27

Amended AD Order

Pursuant to section 735(c)(2) of the Act, Commerce shall “issue an antidumping duty order under section 736” of the Act when the final determination is affirmative. As a result of this amended final determination, Commerce is hereby amending the Order to revise the weighted-average dumping margin assigned to Koehler and all other producers and/or exporters of subject merchandise, as noted above.

Cash Deposit Requirements

Because Koehler has a superseding cash deposit rate, i.e., there have been final results published in a subsequent administrative review, this notice will not affect the current cash deposit rate for Koehler. For the rate applicable to all other exporters and/or producers, Commerce will issue revised cash deposit instructions to U.S. Customs and Border Protection.

Notification to Interested Parties

This notice is issued and published in accordance with sections 516A(c) and (e) and 777(i)(1) of the Act.

Dated: December 15, 2025.
Christopher Abbott,
Deputy Assistant Secretary for Policy and Negotiations, performing the non-exclusive functions and duties of the Assistant Secretary for Enforcement and Compliance.

[FR Doc. 2025-23883 Filed 12-23-25; 8:45 am]

BILLING CODE 3510-DS-P